Proclamation 9597 of April 28, 2017

National Foster Care Month, 2017

By the President of the United States of America

A Proclamation

During the month of May, we observe National Foster Care Month and we celebrate those who have opened their homes and their hearts to children in need and those who have devoted their careers to serving America's foster youth.

Americans throughout the country are serving their communities as foster parents, mentors, respite care providers, and volunteers. In the last year alone, America's foster families opened their homes and hearts to more than 300,000 young people.

But we can do more. Every child deserves a safe and supportive family. Ensuring that children grow up with the opportunity to reach their full potential is a top priority of my Administration. For thousands of children whose biological families are unable to support them, foster families provide a secure and nurturing environment that is essential for a successful start in life.

Foster families serve young people from all walks of life, from infants awaiting adoption, to children seeking reunification with their families and teens in need of safe havens from negative influences. In many cases, they offer our Nation's most at-risk children a second chance at the American Dream.

A tremendous demand exists for foster parents and families across the country. Together as a Nation, we must raise awareness about this need and inspire volunteers to step forward and invest in the lives of our Nation's youth through our foster care system.

NOW, THEREFORE, I, Donald J. Trump, President of the United States of America, by virtue of the authority vested in me by the Constitution and the laws of the United States, do hereby proclaim May 2017 as National Foster Care Month. I call upon all Americans to observe this month by taking time to help children and youth in foster care and to recognize the commitment of those who touch their lives, particularly celebrating their foster parents and other caregivers.

IN WITNESS WHEREOF, I have hereunto set my hand this twenty-eighth day of April, in the year of our Lord two thousand seventeen, and of the Independence of the United States of America the two hundred and forty-first.

[FR Doc. 2017-09075

Filed 5-2-17; 11:15 am]

Billing code 3295-F7-P